NATIONAL SCIENCE FOUNDATION

Research Performance Progress Report Format

Correction

In notice document 07-5601 beginning on page 63629 in the issue of Friday, November 9, 2007, make the following correction:

On page 63630, in the first column, in the first full paragraph, in the fifth, sixth, and seventh lines, “may be required to report on the mandatory category and may be required to report on any of the optional” should read “may be required to report on any of the optional”.

[FR Doc. C7-5601 Filed 11-27-07; 8:45 am]

BILLING CODE 1505-01-D